NUCLEAR REGULATORY COMMISSION

[Docket No. 50-609; NRC-2013-0235]

Northwest Medical Isotopes, LLC

AGENCY: Nuclear Regulatory Commission.

ACTION: Construction permit application; receipt.

SUMMARY: The U.S. Nuclear Regulatory Commission (NRC) has received and is making available the second and final part of a two-part application for a construction permit, submitted by Northwest Medical Isotopes, LLC (NWMI or the applicant). The applicant proposes to build a medical radioisotope facility located in Columbia, Missouri.

DATES: On July 20, 2015, the applicant filed the second and final part of a two-part application for a construction permit.

ADDRESSES: Please refer to Docket ID NRC-2013-0235 when contacting the NRC about the availability of information regarding this document. You may obtain publicly-available information related to this document using any of the following methods:

• Federal Rulemaking Web site: Go to http://www.regulations.gov and search for Docket ID NRC-2013-0235. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• NRC's PDR: You may examine and purchase copies of public documents at the NRC's PDR, Room O1-F21, One White Flint North, 11555 Rockville Pike, Rockville, Maryland 20852.

FOR FURTHER INFORMATION CONTACT: Michael F. Balazik, Office of Nuclear Reactor Regulation, U.S. Nuclear Regulatory Commission, Washington, DC 20555-0001; telephone: 301-415-2856; email: Michael.Balazik@nrc.gov.

SUPPLEMENTARY INFORMATION: On July 20, 2015, NWMI filed with the NRC, pursuant to Section 103 of the Atomic Energy Act of 1954, as amended, and part 50 of title 10 of the Code of Federal Regulations (10 CFR), the second and final part of a two-part application for a construction permit for a medical radioisotope production facility in Columbia, Missouri (ADAMS Accession No. ML15086A262). The applicant is requesting a combined license in accordance with 10 CFR 50.31 and 10 CFR 50.32.

An exemption from certain requirements of 10 CFR 2.101(a)(5) granted by the Commission on October 7, 2013 (ADAMS Accession No. ML13238A333 and 78 FR 63501), in response to a letter from NWMI dated August 9, 2013 (ADAMS Accession No. ML13227A295), allowed for NWMI to submit its construction permit application in two parts. Specifically, the exemption allowed NWMI to submit a portion of its construction permit application for a construction permit up to six months prior to submitting the remainder of the application regardless of whether or not an environmental impact statement or a supplement to an environmental impact statement is prepared during the review of its application. By letter dated November 7, 2014, NWMI submitted part one of its construction permit application to the NRC. By letter dated February 5, 2015 (ADAMS Accession No. ML15086A262, Package No. ML15086A261), NWMI withdrew and resubmitted part one of its construction permit application and included a discussion of connected actions in its environmental report in response to a January 23, 2015, letter from the NRC (ADAMS Accession No. ML14349A501). A notice of receipt and availability of part one of the construction permit application was previously published in the Federal Register on April 21, 2015 (80 FR 22227). The first part of NWMI's construction permit application contained the following information:

• The description and safety assessment of the site required by 10 CFR 50.34(a)(1),

• the environmental report required by 10 CFR 50.30(f),

• the filing fee information required by 10 CFR 50.30(e) and 10 CFR 170.21,

• the general information required by 10 CFR 50.33, and

• the agreement limiting access to classified information required by 10 CFR 50.37.

The NRC staff published in the Federal Register on June 8, 2015 (80 FR 32418), its determination that part one of NWMI's construction permit application is acceptable for docketing.

The NWMI states that part two of its application for a construction permit contains the remainder of the preliminary safety analysis report required by 10 CFR 50.34(a).

Subsequent Federal Register notices will address the acceptability of this part of the tendered construction permit application for docketing and provisions for public participation in the construction permit application review process.

Dated at Rockville, Maryland, this day 28 of October, 2015.
For the Nuclear Regulatory Commission.
Alexander Adams, Jr.,
Chief, Research and Test Reactors Licensing Branch, Division of Policy and Rulemaking, Office of Nuclear Reactor Regulation.

[FR Doc. 2015-28357 Filed 11-5-15; 8:45 am]

BILLING CODE 7590-01-P